DEPARTMENT OF ENERGY

Federal Energy Regulatory Commission

[Project No. 12574-002]

Santiam Water Control District; Notice of Application Ready for Environmental Analysis, and Soliciting Comments, Terms Conditions, and Recommendations

June 22, 2010.

Take notice that the following hydroelectric application has been filed with the Commission and is available for public inspection.

a. Type of Application: Exemption from Licensing.

b. Project No.: 12574-002.

c. Date filed: June 18, 2007 and supplemented on July 18, 2007, pursuant to Order Denying Rehearing (119 FERC ¶ 61,159).

d. Applicant: Santiam Water Control District.

e. Name of Project: Stayton Hydroelectric Project.

f. Location: On the Stayton Ditch near the Town of Stayton, Marion County, Oregon. The project would not occupy United States land.

g. Filed Pursuant to: Public Utility Regulatory Policies Act of 1978, 16 U.S.C. 2705 and 2708.

h. Applicant Contact: Brent Stevenson, Santiam Water Control District, 284 East Water Street, Stayton OR 97383, (503) 769-2669.

i. FERC Contact: Joseph Hassell, (202) 502-8079.

j. Deadline for filing comments, recommendations, terms and conditions: 60 days from the issuance date of this notice; reply comments are due 105 days from the issuance date of this notice.

All documents (original and eight copies) should be filed with: Secretary, Federal Energy Regulatory Commission, 888 First Street, NE., Washington, DC 20426.

The Commission's Rules of Practice require all intervenors filing documents with the Commission to serve a copy of that document on each person whose name appears on the official service list for the project. Further, if an intervenor files comments or documents with the Commission relating to the merits of an issue that may affect the responsibilities of a particular resource agency, they must also serve a copy of the document on that resource agency.

Comments, recommendations, terms and conditions may be filed electronically via the Internet in lieu of paper. The Commission strongly encourages electronic filings. See 18 CFR 385.2001(a)(1)(iii) and the instructions on the Commission's Web site (http://www.ferc.gov) under the “eFiling” link.

k. This application has been accepted and is now ready for environmental analysis at this time.

l. Description of Project: The Stayton Hydropower Project would consist of the existing: (1) Power canal headgate structure and fish ladder, fish screen, and 28-inch-diameter, 600-foot-long juvenile fish bypassed return pipe located near the upstream end of Stayton Ditch; (2) the 0.5-mile-long Stayton Ditch; (3) 24-foot-long by 12-foot-high intake structure equipped with 24.6-foot-long by 12-foot-high and 3-inch bar spacing trashracks located just upstream of the powerhouse; (4) the 40-foot-long V-type spillway weir and integral powerhouse containing a single 600-kilowatt generating unit; (5) the 24-foot-long by 12-foot-high outlet structure located just downstream of the powerhouse; (6) the 0.5-mile-long tailrace channel and tailrace fish barrier; (7) the100-foot-long, 2,400-kilovolt transmission line; and (8) appurtenant facilities. The project would have an average annual generation of 4,320 megawatt-hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h. above.

All filings must: (1) Bear in all capital letters the title “COMMENTS”, “REPLY COMMENTS”, “RECOMMENDATIONS,” or “TERMS AND CONDITIONS,” (2) set forth in the heading the name of the applicant and the project number of the application to which the filing responds; (3) furnish the name, address, and telephone number of the person submitting the filing; and (4) otherwise comply with the requirements of 18 CFR 385.2001 through 385.2005. All comments, recommendations, terms and conditions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. Procedural schedule: The Commission staff proposes to issue a single Environmental Assessment (EA) rather than issuing a draft and final EA. Staff intends to allow 30 days for entities to comment on the EA, and will take into consideration all comments received on the EA before final action is taken on the exemption application. The application will be processed according to the schedule, but revisions to the schedule may be made as appropriate:

Milestone | Target date
Notice of Acceptance and Ready for Environmental Analysis | June 18, 2010.
Filing comments, recommendations, terms and conditions | August 17, 2010.
Reply comments | October 1, 2010.
Notice of availability of Final EA | December 1, 2010.

Kimberly D. Bose,
Secretary.

[FR Doc. 2010-15697 Filed 6-28-10; 8:45 am]

BILLING CODE 6717-01-P